DEPARTMENT OF EDUCATION

[CFDA No. 84.042]

Office of Postsecondary Education, U.S. Department of Education; Notice Inviting Applications for Student Support Services Program New Awards for Fiscal Year (FY) 2001

Purpose of Program: The Student Support Services Program provides grants to institutions of higher education for projects offering support services to low-income, first generation, or disabled college students. These support services should increase their retention and graduation rates, facilitate their transfer from two-year to four-year colleges, and foster an institutional climate supportive of the success of low-income and first generation college students and students with disabilities. The Student Support Services Program increases the number of disadvantaged students in the United States who successfully complete a program of study at the postsecondary level of education.

Eligible Applicants: Institutions of higher education and combinations of institutions of higher education.

Applications Available: August 1, 2000.

Deadline for Transmittal of Applications: September 15, 2000.

Deadline for Intergovernmental Review: November 14, 2000.

Available Funds: $218.4 million. The estimated amount of funds available for new awards is based on the Administration's request for this program for FY 2001. The actual level of funding, if any, is contingent on final congressional action.

Estimated Range of Awards: $180,000-$310,000.

Estimated Number of Awards: 954.

Note: The Department is not bound by any of the estimates in this notice.

Project Period: Up to 60 months.

Page Limit: The application narrative (Part III of the application) is where you, the applicant, address the selection criteria that reviewers use to evaluate your application. You must limit Part III to the equivalent of no more than 100 pages, using the following standards:

• A “page” is 8.5″ x 11″ on one side only, with 1” margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, the bibliography, or the letters of support. However, you must include all of the application narrative in Part III.

We will reject your application if—

• You apply these standards and exceed the page limit; or

• You apply other standards and exceed the equivalent of the page limit.

Applicable Regulations: The Education Department General Administrative Regulations (EDGAR) in 34 CFR parts 74, 75, 77, 79, 82, 85, 86, 97, 98 and 99; and the regulations for this program in 34 CFR part 646.

FOR FURTHER INFORMATION CONTACT: Deborah I. Walsh, Office of Federal TRIO Programs, U.S. Department of Education, 1990 K Street, NW, Suite 7000, Washington, DC 20006-8510. Telephone: (202) 502-7600. The E-mail address for Ms. Walsh is: TRIO@ed.gov.

Individuals who use a telecommunications device for the deaf (TDD) may call the Federal Information Relay Service (FIRS) at 1-800-877-8339. Individuals with disabilities may obtain this document in an alternative format (e.g., Braille, large print, audiotape, or computer diskette) on request to the contact person listed in the preceding paragraph.

Individuals with disabilities may obtain a copy of the application package in an alternative format, also, by contacting that person. However, the Department is not able to reproduce in an alternative format the standard forms included in the application package.

FOR APPLICATIONS CONTACT: Education Publications Center (ED Pubs), P.O. Box 1398, Jessup, MD 20794-1398. Telephone (toll free): 1-877-433-7827. Fax: (301) 470-1244. Individuals who use telecommunications device for the deaf (TDD) may call (toll free): 1-877-576-7734. You may also contact ED Pubs at its Web Site: http://www.ed.gov/pubs/edpubs.html or at its E-mail address: edpubs@inet.ed.gov.

If you request an application from ED Pubs, be sure to identify this competition as follows: CFDA 84.042.

Electronic Access to This Document

You may view this document, as well as all other Department of Education Documents published in the Federal Register, in text or Adobe Portable Document Format (PDF) on the Internet at either of the following sites:

http://ocfo.ed.gov/fedreg.htm

http://www.ed.gov/news.html

To use PDF you must have Adobe Acrobat Reader, which is available free at either of the previous sites. If you have questions about using PDF, call the U. S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 1070a-11 and 1070a-14.

Dated: July 20, 2000.
A. Lee Fritschler,
Assistant Secretary, Office of Postsecondary Education.

[FR Doc. 00-18863 Filed 7-25-00; 8:45 am]

BILLING CODE 4000-01-P